ENVIRONMENTAL PROTECTION AGENCY

[EPA-HQ-OEI-2007-0031; FRL-8462-6]

Deletion of Existing SORN

AGENCY: Environmental Protection Agency (EPA).

ACTION: Notice of a deletion and transfer of an existing system of records.

SUMMARY: Pursuant to the provisions of the Privacy Act of 1974 (5 U.S.C. 552a), the Office of Inspector General, Environmental Protection Agency is giving notice that it proposes to delete and transfer an existing system of records for the IG Operations and Records System (SORN EPA-41). This system was used to support EPA's Personnel Security function when that function was assigned to the EPA Office of Inspector General. The system was used to track the status of EPA Personnel with sensitive clearances and individuals undergoing background checks for sensitive positions. This module of the EPA OIG's Inspector General Operations and Records (IGOR) System has been removed from the EPA's production server and is no longer available for data input, reports or processing.

The EPA Personnel Security Function has been transferred to EPA's Office of Administration and Resources Management (OARM). Tracking of the Personnel Security Function is currently managed in a sub-system of the Office of Administration Services (OAS), Office of Administration Services Information System (OASIS). The SORN for this IGOR sub-module (EPA-41) has been transferred to the OAS OASIS system.

DATES: Persons wishing to comment on this system of records notice may do so by October 15, 2007.

ADDRESSES: Submit your comments, identified by Docket ID No. EPA-HQ-OEI-2007-0031, by one of the following methods:

• www.regulations.gov: Follow the online instructions for submitting comments.

• E-mail: oei.docket@epa.gov.

• Fax: 202-566-1752.

• Mail: OEI Docket, Environmental Protection Agency, Mailcode: 2822T, 1200 Pennsylvania Ave., NW., Washington, DC 20460.

• Hand Delivery: OEI Docket, EPA/DC, EPA West Building, Room B102, 1301 Constitution Ave., NW., Washington, DC. Such deliveries are only accepted during the Docket's normal hours of operation, and special arrangements should be made for deliveries of boxed information.

Instructions: Direct your comments to Docket ID No. EPA-HQ-OEI-2007-0031. EPA's policy is that all comments received will be included in the public docket without change and may be made available online at http://www.regulations.gov, including any personal information provided, unless the comment includes information claimed to be Confidential Business Information (CBI) or other information for which disclosure is restricted by statute. Do not submit information that you consider to be CBI or otherwise protected through www.regulations.gov. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically in www.regulations.gov or in hard copy at the OEI Docket, EPA/DC, EPA West Building, Room B102, 1301 Constitution Ave., NW., Washington, DC. The Public Reading Room is open from 8:30 a.m. to 4:30 p.m., Monday through Friday excluding legal holidays. The telephone number for the Public Reading Room is (202) 566-1744, and the telephone number for the OEI Docket is (202) 566-1752.

FOR FURTHER INFORMATION CONTACT: Janet Wilson in the Office of Inspector General at 202-566-2673.

SUPPLEMENTARY INFORMATION:

I. General Information

The IG Operations and Records System of records does not duplicate any existing system of records. Details regarding the deleted system of records are contained in this Federal Register Notice. This system was used to keep current information in support of EPA's Personnel Security function which at the time of the issuance of SORN EPA-41 was assigned to the EPA Office of Inspector General. Since that time, EPA's Personnel Security Function has transferred to the Office of Administrative Services.

Dated: August 22, 2007.
Molly O'Neill,
Assistant Administrator and Chief Information Officer.

[FR Doc. E7-17410 Filed 8-31-07; 8:45 am]

BILLING CODE 6560-50-P